DEPARTMENT OF LABOR

Employment and Training Administration

[TA-W-52,898]

State of Alaska Commercial Fisheries Entry Commission Permit #S04K62143 Kodiak, AK; Notice of Termination of Investigation

Pursuant to section 221 of the Trade Act of 1974, as amended, an investigation was initiated on September 23, 2003 in response to a petition filed by a company official on behalf of the group of workers covered by State of Alaska Commercial Fisheries Entry Commission Permit #S04K62143, Kodiak, Alaska.

The petition regarding the investigation has been deemed invalid. In order to establish a valid worker group, there must be at least three full-time workers employed at some point during the period under investigation. Workers of the group subject to this investigation did not meet this threshold level of employment. Consequently, the investigation has been terminated.

Signed at Washington, DC this 25th day of September 2003.
Linda G. Poole,
Certifying Officer, Division of Trade Adjustment Assistance.

[FR Doc. 03-29374 Filed 11-24-03; 8:45 am]

BILLING CODE 4510-30-P